ENVIRONMENTAL PROTECTION AGENCY

[CA 097-NOA; FRL-7535-3]

Adequacy Status of the San Joaquin Valley Unified Air Pollution Control District, California Submitted Ozone Rate of Progress Plan for Transportation Conformity Purposes

AGENCY: Environmental Protection Agency (EPA).

ACTION: Notice of adequacy determination.

SUMMARY: In this notice, EPA is notifying the public that we have found that the motor vehicle emissions budgets contained in the submitted Amended 2002 and 2005 Ozone Rate of Progress Plan for the San Joaquin Valley Unified Air Pollution Control District are adequate for transportation conformity purposes.

As a result of our finding, the various transportation planning agencies in the San Joaquin Valley and the Federal Highway Administration must use the VOC and NOX motor vehicle emissions budgets from the Amended Rate of Progress plan for future conformity determinations.

DATES: This determination is effective August 8, 2003.

FOR FURTHER INFORMATION CONTACT: The finding is available at EPA's conformity Web site: http://www.epa.gov/oms/transp/traqconf.htm (once there, click on the “Transportation Conformity” link, then look for “Adequacy Web Pages”).

You may also contact David Wampler, U.S. EPA, Region IX, Air Division AIR-2, 75 Hawthorne Street, San Francisco, CA 94105; (415) 972-3975 or wampler.david@epa.gov.

SUPPLEMENTARY INFORMATION: This notice announces our finding that the emissions budgets contained in the Amended 2002 and 2005 Ozone Rate of Progress Plan submitted by the State of California on behalf of the San Joaquin Valley Unified Air Pollution Control District on April 10, 2003, are adequate for transportation conformity purposes. EPA Region IX made this finding in a letter to the State of California, Air Resources Board on July 10, 2003. We are also announcing this finding on our conformity Web site: http://www.epa.gov/oms/transp/traqconf.htm (once there, click on the “Transportation Conformity” link, then look for “Adequacy Web Pages”).

Transportation conformity is required by section 176(c) of the Clean Air Act. Our conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). One of these criteria is that the motor vehicle emissions budgets, when considered together with all other emission sources, is consistent with applicable requirements for the reasonable further progress plan. We have preliminarily determined that the San Joaquin Valley Amended 2002 and 2005 Ozone Rate of Progress plan meets the necessary emissions reductions and, therefore, the motor vehicle emissions budgets can be found adequate. Please note that an adequacy review is separate from EPA's completeness review, and it also should not be used to prejudge EPA's ultimate approval of the submitted plan itself. Even if we find a budget adequate, the submitted plan could later be disapproved.

We have described our process for determining the adequacy of submitted SIP budgets in guidance (May 14, 1999 memo titled “Conformity Guidance on Implementation of March 2, 1999 Conformity Court Decision”). We followed this guidance in making our adequacy determination on the emissions budgets contained in the Amended 2002 and 2005 Ozone ROP Plan for San Joaquin Valley.

Authority: 42 U.S.C. 7401-7671 q.

Dated: July 14, 2003.
Laura Yoshii,
Acting Regional Administrator, Region IX.

[FR Doc. 03-18854 Filed 7-23-03; 8:45 am]

BILLING CODE 6560-50-P